DEPARTMENT OF TRANSPORTATION

Office of the Secretary

Aviation Proceedings, Agreements Filed the Week Ending September 26, 2009

The following Agreements were filed with the Department of Transportation under Sections 412 and 414 of the Federal Aviation Act, as amended (49 U.S.C. 1383 and 1384), and procedures governing proceedings to enforce these provisions. Answers may be filed within 21 days after the filing of the application.

Docket Number: DOT-OST-2009-0227.

Date Filed: September 21, 2009.

Parties: Members of the International Air Transport Association.

Subject: Mail Vote 610—Resolution 010j—TC3 Special Passenger Amending Resolution between China (excluding Hong Kong SAR and Macao SAR) and Japan (Memo 1318). Intended Effective Date: October 1, 2009.

Renee V. Wright,
Program Manager, Docket Operations, Federal Register Liaison.

[FR Doc. E9-24784 Filed 10-15-09; 8:45 am]

BILLING CODE 4910-9X-P